DEPARTMENT OF AGRICULTURE

Food Safety and Inspection Service

[Docket No. FSIS-2009-0018]

Notice of Request for Revision of a Currently Approved Information Collection (Exportation, Transportation, and Importation of Meat and Poultry Products)

AGENCY: Food Safety and Inspection Service, USDA.

ACTION: Notice and request for comments.

SUMMARY: In accordance with the Paperwork Reduction Act of 1995 and the Office of Management and Budget (OMB) regulations, the Food Safety and Inspection Service (FSIS) is announcing its intention to request a revision of an information collection concerning the exportation, transportation, and importation of meat and poultry products since the OMB approval for this information collection is scheduled to expire in January 2010, and because the Agency now has more accurate data regarding the forms used to export and import product.

DATES: Comments on this notice must be received on or before December 28, 2009.

ADDRESSES: FSIS invites interested persons to submit comments on this proposed rule. Comments may be submitted by either of the following methods:

• Federal eRulemaking Portal: This Web site provides the ability to type short comments directly into the comment field on this Web page or attach a file for lengthier comments. Go to http://www.regulations.gov. Follow the online instructions at that site for submitting comments.

• Mail, including floppy disks or CD-ROMs, and hand- or courier-delivered items: Send to Docket Clerk, U.S. Department of Agriculture, Food Safety and Inspection Service, Room 2-2175 George Washington Carver Center, 5601 Sunnyside Avenue, Beltsville, MD 20705.

Instructions: All items submitted by mail or electronic mail must include the Agency name and docket number FSIS-2009-0018. Comments received in response to this docket will be made available for public inspection and posted without change, including any personal information, to http://www.regulations.gov.

Docket: For access to background documents or comments received, go to the FSIS Docket Room at the address listed above between 8:30 a.m. and 4:30 p.m., Monday through Friday.

For Additional Information: Contact John O'Connell, Paperwork Reduction Act Coordinator, Food Safety and Inspection Service, USDA, 1400 Independence Avenue, SW., Room 6065 South Building, Washington, DC 20250, (202) 720-0345.

SUPPLEMENTARY INFORMATION: Title: Exportation, Transportation, and Importation of Meat and Poultry Products.

OMB Number: 0583-0094.

Expiration Date of Approval: 1/31/2010.

Type of Request: Revision of an approved information collection.

Abstract: FSIS has been delegated the authority to exercise the functions of the Secretary as specified in the Federal Meat Inspection Act (FMIA) (21 U.S.C. 601, et seq.) and the Poultry Products Inspection Act (PPIA) (21 U.S.C. 451, et seq.). FSIS protects the public by verifying that meat and poultry products are safe, wholesome, unadulterated, and correctly labeled and packaged.

FSIS is planning to request a revision of an information collection addressing paperwork requirements related to the collection of information for the exportation, transportation, and importation of meat and poultry products because this information collection is scheduled to expire in January 2010, and because the Agency now has more accurate data regarding the forms used to export and import product. In the previous submission (three years ago), FSIS had overestimated the number of burden hours associated with completing and submitting the Application for Export Certificate by over 500,000 hours.

FSIS requires that meat and poultry establishments exporting product to foreign countries complete an export certificate (9 CFR 322.2 and 381.105). Establishments must supply the type, amount, and destination of product being exported. The information required to be supplied on this form does not duplicate any information other Federal agencies may require. Such a form is necessary to certify to the importing countries that FSIS inspectors have inspected the product and have found it sound and wholesome.

Meat and poultry products not marked with the mark of inspection and shipped from one official establishment to another for further processing must be transported under USDA seal to prevent such unmarked product from entering into commerce (9 CFR 325.5). To track product shipped under seal, FSIS requires shipping establishments to complete a form that identifies the type, amount, and weight of the product.

Foreign countries exporting meat and poultry products to the U.S. must establish eligibility for importation of product into the U.S. and must annually certify that their inspection systems are “equivalent to” the U.S. inspection system (9 CFR 327.2 and 381.196). Additionally, meat and poultry products intended for import into the U.S. must be accompanied by a certificate, signed by an official of the foreign government, stating that the products have been produced by certified foreign establishments (9 CFR 327.2 and 381.197). Official import inspection establishments or brokers wishing to import product into the United States must complete a form that specifies the type, amount, originating country, and destination of the meat and poultry product (9 CFR 327.4 and 381.198). Additionally, FSIS has established procedures that allow import facilities importing product to stamp such product with the inspection legend prior to FSIS inspection, if they receive prior FSIS approval (9 CFR 327.10 and 381.204). Import facilities wishing to pre-stamp must submit a letter to FSIS requesting approval. Import facilities must also keep a log of information concerning each lot of product they have pre-stamped.

FSIS has made the following estimates based upon an information collection assessment:

Estimate of Burden: FSIS estimates that it will take an average of .15 hours per response.

Respondents: Official establishments, warehouses, and import establishments.

Estimated Total No. of Respondents: 6,441.

Estimated No. of Annual Responses per Respondent: 145.

Estimated Total Annual Burden on Respondents: 139,471 hours.

Copies of this information collection assessment can be obtained from John O'Connell, Paperwork Reduction Act Coordinator, Food Safety and Inspection Service, USDA, 1400 Independence Avenue, SW., Room 6065, South Bldg., Washington, DC 20250, (202) 720-0345.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

Public awareness of all segments of rulemaking and policy development is important. Consequently, in an effort to ensure that the public and in particular minorities, women, and persons with disabilities, are aware of this notice, FSIS will announce it online through the FSIS Web page located at: http://www.fsis.usda.gov/regulations/2009_Notices_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on October 23, 2009.
Alfred V. Almanza,
Administrator.

[FR Doc. E9-26084 Filed 10-28-09; 8:45 am]

BILLING CODE 3410-DM-P